SMALL BUSINESS ADMINISTRATION

[Declaration of Disaster #P068]

State of Tennessee Amendment #1

In accordance with notices received from the Department of Homeland Security—Federal Emergency Management Agency, effective October 22 and November 10, 2004, the above numbered Public Assistance declaration is hereby amended to include Giles and Unicoi Counties in the State of Tennessee as disaster areas due to damages caused by severe storms and flooding occurring on September 16-20, 2004.

All other information remains the same, i.e., the deadline for filing applications for physical damage is December 6, 2004.

(Catalog of Federal Domestic Assistance Program Nos. 59008)
Dated: November 30, 2004.
Herbert L. Mitchell,
Associate Administrator for Disaster Assistance.

[FR Doc. 04-26759 Filed 12-3-04; 8:45 am]

BILLING CODE 8025-01-P